DEPARTMENT OF ENERGY

Federal Energy Regulatory Commission

[Docket No. ER00-3211-002]

Citizens Communications Company; Notice of Filing

February 14, 2001.

Take notice that on February 8, 2001, Citizens Communications Company tendered a supplemental filing in compliance with the Commission's August 17, 2000 letter order in this proceeding. Citizens supplements its January 2, 2001 filing with a proposed Notice of Cancellations.

Notice is hereby given that effective the 2d day of January, 2001, the following rate schedules of Citizens Utilities Company, and any and all supplements thereto, on file with the Federal Energy Regulatory Commission are to be canceled:

FERC Electric Tariff Original Volume. No. 2, effective December 1, 1995; FERC Electric Tariff First Revised Volume. No. 3, effective December 1, 1995;

FPC Rate Schedule No. 5, effective March 7, 1964;

FPC Rate Schedule No. 4, effective October 13, 1963;

FPC Rate Schedule No. 6, effective March 7, 1964;

FPC Rate Schedule No. 7, effective March 7, 1964;

FPC Rate Schedule No. 8, effective March 7, 1964;

FPC Rate Schedule No. 10, effective March 7, 1964;

FPC Rate Schedule No. 12, effective October 13, 1963;

FPC Rate Schedule No. 19, effective October 3, 1977;

Rate Schedule FERC No. 26, effective May 15, 1994;

Rate Schedule FERC No. 30, effective June 26, 1985;

Rate Schedule FERC No. 34, effective June 26, 1985;

Rate Schedule FERC No. 36, effective April 1, 1991;

Rate Schedule FERC No. 39, effective March 1, 1995;

Rate Schedule FERC No. 40, effective December 15, 1995.

A copy of this filing and notice of the proposed cancellation have been served on the service list in this docket, on each of Citizens Communications Company's wholesale customers, and on each party to the above referenced rate schedules, as identified in the Certificate of Service attached to the filing. In addition, a copy is available for inspection at the offices of Citizens' Vermont Electric Division and Arizona Electric Division during regular business hours.

Any person desiring to be heard or to protest such filing should file a motion to intervene or protest with the Federal Energy Regulatory Commission, 888 First Street, N.E., Washington, D.C. 20426, in accordance with Rules 211 and 214 of the Commission's Rules of Practice and Procedure (18 CFR 285.211 and 385.214). All such motions and protests should be filed on or before February 26, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-4200 Filed 2-20-01; 8:45 am]

BILLING CODE 6717-01-M